DEPARTMENT OF HOUSING AND URBAN DEVELOPMENT

[Docket No. FR-5964-D-01]

Order of Succession for the Office of Public Affairs

AGENCY: Office of the Assistant Secretary for Public Affairs, HUD.

ACTION: Notice of order of succession.

SUMMARY: In this notice, the Assistant Secretary for Public Affairs designates the Order of Succession for the Office of Public Affairs. This Order of Succession supersedes all prior orders of succession for the Office of Public Affairs, including the Order of Succession published on July 20, 2011.

DATES: Effective Date: September 7, 2016.

FOR FURTHER INFORMATION CONTACT: Jereon Brown, General Deputy Assistant Secretary, Office of Public Affairs, Department of Housing and Urban Development, 451 7th Street SW., Room 10130, Washington, DC 20410-6000, telephone number 202-708-0980. (This is not a toll-free number). Persons with hearing- or speech-impairments may access this number through TTY by calling the toll-free Federal Relay Service at 1-800-877-8339.

SUPPLEMENTARY INFORMATION: The Assistant Secretary for Public Affairs is issuing this Order of Succession of officials authorized to perform the functions and duties of the Assistant Secretary for Public Affairs when, by reason of absence, disability, or vacancy in office, the Assistant Secretary for Public Affairs is not available to exercise the powers or perform the duties of the office. This Order of Succession is subject to the provisions of the Federal Vacancies Reform Act of 1998 (5 U.S.C. 3345-3349d). This publication supersedes all prior orders of succession for the Office of Public Affairs, including the Order of Succession published on July 20, 2011 (76 FR 43337).

Accordingly, the Assistant Secretary designates the following Order of Succession:

Section A. Order of Succession

Subject to the provisions of the Federal Vacancies Reform Act of 1998, during any period when, by reason of absence, disability, or vacancy in office, the Assistant Secretary for Public Affairs is not available to exercise the powers or perform the duties of the office of the Assistant Secretary, the following officials within the Office of Public Affairs are hereby designated to exercise the powers and perform the duties of the Office. No individual who is serving in an office listed below in an acting capacity may act as the Assistant Secretary for Public Affairs pursuant to this Order of Succession.

(1) General Deputy Assistant Secretary;

(2) Deputy Assistant Secretary for Public Affairs;

(3) Supervisory Public Affairs Specialist.

These officials shall perform the functions and duties of the office in the order specified herein, and no official shall serve unless all the other officials, whose position titles precede his/hers in this order, are unable to act by reason of absence, disability, or vacancy in office.

Section B. Authority Superseded

This Order of Succession supersedes all prior orders of succession for the Office of the Assistant Secretary for Public Affairs, including the Order of Succession published on July 20, 2011 (76 FR 43337).

Authority: Section 7(d), Department of Housing and Urban Development Act, 42 U.S.C. 3535(d).

Dated: September 7, 2016.
Jaime S. Castillo,
Assistant Secretary for Public Affairs.

[FR Doc. 2016-22004 Filed 9-13-16; 8:45 am]

BILLING CODE 4210-67-P